DEPARTMENT OF DEFENSE

GENERAL SERVICES ADMINISTRATION

NATIONAL AERONAUTICS AND SPACE ADMINISTRATION

48 CFR Parts 4, 12, 14, and 15

[FAC 2005-19; FAR Case 2005-025; Item III; Docket 2006-0020; Sequence 4]

RIN 9000-AK56

Federal Acquisition Regulation; FAR Case 2005-025; Online Representations and Certifications Application Archiving Capability

AGENCIES: Department of Defense (DoD), General Services Administration (GSA), and National Aeronautics and Space Administration (NASA).

ACTION: Final rule.

SUMMARY: The Civilian Agency Acquisition Council and the Defense Acquisition Regulations Council (Councils) have agreed to adopt the interim rule published in the Federal Register at 71 FR 57362, September 28, 2006, as a final rule without change. This final rule amends the Federal Acquisition Regulation (FAR) to address the record retention policy where the Online Representations and Certifications Application (ORCA) is used to submit an offeror’s representations and certification.

DATES: Effective Date: August 17, 2007.

FOR FURTHER INFORMATION CONTACT: Mr. Ernest Woodson, Procurement Analyst, at (202) 501-3775 for clarification of content. For information pertaining to status or publication schedules, contact the FAR Secretariat at (202) 501-4755. Please cite FAC 2005-19, FAR case 2005-025.

SUPPLEMENTARY INFORMATION:

A. Background

DoD, GSA, and NASA published an interim rule with request for comments in the Federal Register at 71 FR 57362, September 28, 2006. This final rule amends the Federal Acquisition Regulation to address the record retention policy where the Online Representations and Certifications Application (ORCA) is used to submit an offeror’s representations and certifications.

The comment period closed November 27, 2006. One respondent submitted comments.

This is not a significant regulatory action and, therefore, was not subject to review under Section 6(b) of Executive Order 12866, Regulatory Planning and Review, dated September 30, 1993. This rule is not a major rule under 5 U.S.C. 804.

B. Regulatory Flexibility Act

The Department of Defense, the General Services Administration, and the National Aeronautics and Space Administration certify that this final rule will not have a significant economic impact on a substantial number of small entities within the meaning of the Regulatory Flexibility Act, 5 U.S.C. 601, et seq., because the rule addresses management of contract files and clarifies existing procedures and practices used by Government contracting officers in making contract award decisions. The rule does not impose new requirements that impose a burden on contractors. No comments were received with regard to an impact on small business.

C. Paperwork Reduction Act

The Paperwork Reduction Act does not apply because the changes to the FAR do not impose information collection requirements that require the approval of the Office of Management and Budget under 44 U.S.C. 3501, et seq.

List of Subjects in 48 CFR Parts 4, 12, 14, and 15

Government procurement.

Dated: July 30, 2007.
Al Matera,
Acting Director, Contract Policy Division.

Interim Rule Adopted as Final Without Change

Accordingly, the interim rule amending 48 CFR parts 4, 12, 14, and 15 which was published at 71 FR 57362 on September 28, 2006, is adopted as a final rule without change.

[FR Doc. 07-3794 Filed 8-16-07; 8:45 am]

BILLING CODE 6820-EP-S